DEPARTMENT OF THE INTERIOR

Geological Survey

Technology Transfer Act of 1986

AGENCY: U.S. Geological Survey, Interior.

ACTION: Notice of proposed Cooperative Research and Development Agreement (CRADA) negotiation.

SUMMARY: The U.S. Geological Survey (USGS) is contemplating entering into a cooperative Research and Development Agreement (CRADA) with the National Stone, Sand & Gravel Association to develop a CD-ROM database of U.S. aggregates operations, based on the information included in the USGS National Atlas. The interative CD-ROM will allow users to search and correlate aggregates operations with a broad array of geographical, geologic, environmental, infrastructure, and political features.

Inquiries: If any other parties are interested in similar activities with the USGS, please contact: Valentin V. Tepordei, USGS National Center, MS 983, 12201 Sunrise Valley Dr., Reston, VA 20192, Tel. 703-648-7728.

SUPPLEMENTARY INFORMATION: This notice is submitted to meet the USGS requirements stipulated in the Survey Manual Chapter 500.20.

P. Patrick Leahy,
Associate Director for Geology, U.S. Geological Survey, Reston, VA.

[FR Doc. 01-16273 Filed 6-27-01; 8:45 am]

BILLING CODE 4310-Y7-M